DEPARTMENT OF COMMERCE

National Oceanic and Atmospheric Administration

RIN 0648-XD981

Vessel Monitoring System, Enhanced Mobile Transceiver Unit Type-Approvals

AGENCY: National Marine Fisheries Service (NMFS), National Oceanic and Atmospheric Administration (NOAA), Commerce.

ACTION: Notice.

SUMMARY: This document provides notice that three enhanced mobile transceiver units (EMTU) that were previously approved for use to comply with vessel monitoring system (VMS) requirements in United States federal fisheries are no longer approved for use. This document also provides a link to the continually updated, online list of NOAA Fisheries Service Type-Approved VMS Units.

ADDRESSES: To obtain copies of the list of NMFS-approved VMS mobile transmitting units and NMFS-approved VMS communications service providers (including specifications), please go to: http://www.nmfs.noaa.gov/ole/about/our_programs/vessel_monitoring.html, and click on the “Approved VMS Units” link.

You may also contact the VMS Support Center at phone (888) 219-9228, fax (301) 427-0049, or write to NMFS Office for Law Enforcement (OLE), VMS, 1315 East West Highway, Suite 3301, Silver Spring, Maryland 20910.

FOR FURTHER INFORMATION CONTACT: The public may acquire this notice and relevant updates by calling the VMS support center, email: ole.helpdesk@noaa.gov, phone (888) 219-9228, fax (301) 427-0049. For questions regarding the status of VMS provider evaluations, contact Kelly Spalding, VMS Management Analyst, phone (301) 427-2300; fax (301) 427-0049.

SUPPLEMENTARY INFORMATION: In December 2014, the National Marine Fisheries Service (NMFS) published in the Federal Register a final regulation governing the technical requirements for, and NMFS' approval of VMS units used in U.S. federal fisheries (79 FR 77399 (Dec. 24, 2014); 50 CFR part 600, subpart Q). One of the requirements set out in the regulation is a type-approval renewal process. Under the type-approval renewal process, VMS vendors are required to apply for a renewal of their type-approved EMTUs/services every three years. CLS America, Inc. and SkyMate Inc. did not submit completed applications for type-approval renewal for some or all of their type-approved EMTUs/services. As a result, the following EMTU/communication-services did not receive renewal, and are therefore no longer approved for compliance with VMS requirements in United States federal fisheries, after September 30, 2015:

Skymate | Stellar ST2500G (with messaging terminal).
| Stellar ST2500G (with closed Dell laptop).
CLS America | Thorium TST (The Thorium TST A2.0 and the Thorium LEO A2.0 are still approved).

Current Type-Approvals

The list of type-approved EMTUs is continually changing. For the most up to date list of type-approved VMS EMTUs, by fishery/region, please go to http://www.nmfs.noaa.gov/ole/about/our_programs/vessel_monitoring.html, and click on the “Approved VMS Units” link.

Dated: June 1, 2015.
Samuel D. Rauch III,
Deputy Assistant Administrator for Regulatory Programs, National Marine Fisheries Service.

[FR Doc. 2015-13675 Filed 6-4-15; 8:45 am]

BILLING CODE 3510-22-P